DEPARTMENT OF THE INTERIOR

Fish and Wildlife Service

Notice of Availability of the Final Restoration Plan and Environmental Assessment for the Lone Mountain Processing, Inc. Coal Slurry Spill Natural Resource Damage Assessment in Lee County, VA

AGENCY: U.S. Fish and Wildlife Service, Department of the Interior.

ACTION: Notice of availability.

SUMMARY: The U.S. Fish and Wildlife Service (Service), on behalf of the Department of the Interior (DOI), announces the release of the Final Restoration Plan and Environmental Assessment (RP/EA) for the Lone Mountain Processing, Inc. (LMPI) Coal Slurry Spill Natural Resource Damage Assessment in Lee County, Virginia. The RP/EA describes the trustee's plan to restore natural resources injured as a result of a release of hazardous substances.

ADDRESSES: Requests for copies of the Final RP/EA may be made to: U.S. Fish and Wildlife Service, Virginia Field Office, 6669 Short Lane, Gloucester, Virginia 23061.

FOR FURTHER INFORMATION CONTACT: John Schmerfeld, U.S. Fish and Wildlife Service, 6669 Short Lane, Gloucester, Virginia 23061. Interested parties may also call 804-693-6694, extension 107, for further information.

SUPPLEMENTARY INFORMATION: On October 24, 1996, a failure in a coal slurry impoundment associated with a coal processing plant owned by LMPI in Lee County, Virginia, resulted in the release of six million gallons of coal slurry to the Powell River watershed. The spill occurred when subsidence in the coal slurry impoundment caused the coal slurry to enter a system of abandoned underground coal mine-works. The coal slurry exited through a mine-works surface portal at Gin Creek, causing the release of the coal slurry into a series of tributaries to the Powell River. “Blackwater,” a mix of water, coal fines, and clay, and associated contaminants, extended far downstream. The coal slurry spill impacted fish, endangered freshwater mussels, other benthic organisms, supporting aquatic habitat, and designated critical habitat for two federally listed fish. Federally listed bats and migratory birds may have also been affected acutely due to a loss of a food supply, and chronically due to possible accumulation of contaminants through the food chain.

A Consent Decree (CD) was entered with the U.S. District Court for the Western District of Virginia, Big Stone Gap Division by the United States and LMPI on March 5, 2001, to address natural resource damages resulting from the 1996 release. The CD required that LMPI pay $2,450,000 to the DOI Natural Resource Damage Assessment and Restoration Fund. The CD stipulates that these funds are to be “* * * utilized for reimbursement of past natural resource damage assessment costs, and restoration, replacement or acquisition of endangered and threatened fishes and mussels located in the Powell River and its watershed, or restoration, replacement or acquisition of their habitats or ecosystems which support them, or for restoration planning, implementation, oversight and monitoring.”

Section 111(i) of the Comprehensive Environmental Response, Compensation and Liability Act (CERCLA) requires natural resource trustees to develop a restoration plan prior to allocating recoveries to implement restoration actions, and to obtain public comment on that plan. Under the National Environmental Policy Act (NEPA), Federal agencies must identify and evaluate environmental impacts that may result from Federal actions. A Notice of Availability of the Draft RP/EA was published in the Federal Register on February 15, 2003, and a 30-day public comment period ended on March 15, 2003. Public comments were received and are addressed in the Final RP/EA. The Final RP/EA integrates CERCLA and NEPA requirements by summarizing the affected environment, describing the purpose and need for action, and selecting and describing the preferred restoration alternative.

Interested members of the public are invited to review the Final RP/EA. Copies of the Final RP/EA are available at the Service's Virginia Field Office in Gloucester, Virginia and at the Service's Southwestern Virginia Field Office located at 330 Cummings Street, Suite A, Abingdon, Virginia 24210.

Author: The primary author of this notice is John Schmerfeld, U.S. Fish and Wildlife Service, Virginia Field Office, 6669 Short Lane, Gloucester, Virginia 23061.

Authority: The authority for this action is the CERCLA of 1980 as amended, commonly known as Superfund (42 U.S.C. 9601 et seq.), and the Natural Resource Damage Assessment Regulations found at 43 CFR, part 11.

Dated: June 27, 2003.
Richard O. Bennett,
Acting Regional Director, Region 5, Fish and Wildlife Service, U.S. Department of the Interior, Designated Authorized Official.

[FR Doc. 03-17813 Filed 7-14-03; 8:45 am]

BILLING CODE 4310-55-P